DEPARTMENT OF ENERGY

Federal Energy Regulatory Commission

[Docket No. RP01-620-000]

Transwestern Pipeline Company v. Southern California Gas Company; Notice of Complaint

October 2, 2001.

Take notice that on September 28, 2001, Transwestern Pipeline Company (Transwestern) filed a complaint against Southern California Gas Company (SoCalGas) pursuant to 18 CFR 2385.206. Transwestern states that SoCalGas is violating Transwestern's tariff by failing to pay the appropriate Settlement Bas Rates established for and agreed to by SoCalGas as a Current Firm customer under the Settlement in Docket Nos. RP95-271, et al. (Global Settlement) and that SoCalGas' payment of a non-escalated non-Current Customer rate constitutes a violation of the terms of the Global Settlement and the Commission's order approving the Global Settlement. Transwestern requests that SoCalGas comply with Transwestern's Tariff and the Global Settlement. Transwestern requests that SoCalGas comply with Transwestern's Tariff and the Global Settlement by paying the proper Settlement Bas Rates, reflected on the applicable tariff sheet for the period dating back to November 1, 1996, in accordance with Transwestern's invoices.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before October 18, 2001. Protests will be considered by the Commission in determining the appropriate action to be taken, but will not serve to make protestants parties to the proceeding. Any person wishing to become a party must file a motion to intervene. Answers to the complaint shall also be due on or before October 18, 2001. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-25218 Filed 10-5-01; 8:45 am]

BILLING CODE 6717-01-P